DEPARTMENT OF LABOR

Employment and Training Administration

[TA-W-52,523]

Hanes Dye & Finishing Company, Winston-Salem, NC; Notice of Termination of Investigation

Pursuant to Section 221 of the Trade Act of 1974, an investigation was initiated on August 12, 2003 in response to a worker petition which was filed by a company official on behalf of workers at Hanes Dye & Finishing Company, Winston-Salem, North Carolina.

The petitioner has requested that the petition be withdrawn. Consequently, the investigation has been terminated.

Signed in Washington, DC, this 9th day of September 2003.
Richard Church,
Certifying Officer, Division of Trade Adjustment Assistance.

[FR Doc. 03-25736 Filed 10-9-03; 8:45 am]

BILLING CODE 4510-30-P